DEPARTMENT OF COMMERCE

National Oceanic and Atmospheric Administration

[RTID 0648-XC084]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold its Regional Archipelagic Ecosystem Committee (REAC) meeting to discuss and make recommendations on fishery management issues in the Western Pacific Region.

DATES: The meeting will be held June 17, 2022. For specific times and agendas, see SUPPLEMENTARY INFORMATION.

ADDRESSES: The meeting will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The REAC meeting will be held between 1 p.m. and 4 p.m. on June 17, 2022, Hawaii Standard Time. Public comment periods will be provided in the agendas. The order in which agenda items are addressed may change. The meeting will run as late as necessary to complete scheduled business.

Agenda for the REAC Meeting

1. Welcome and Introductions

2. Overview of the Past REAC Meetings and REAC Responsibilities

3. Seafood Strategy

4. Topics for Future REAC Discussion

5. Public Comment

6. Other Business

7. Discussion and Recommendations

Special Accommodations

The meeting is physically accessible to people with disabilities. Requests for sign language interpretation or other auxiliary aids should be directed to Kitty M. Simonds, phone: (808) 522-8220 (voice) or (808) 522-8226 (fax), at least 5 days prior to the meeting date.

(Authority: 16 U.S.C. 1801 et seq.)

Dated: May 26, 2022.
Tracey L. Thompson,
Acting Deputy Director, Office of Sustainable Fisheries, National Marine Fisheries Service.

[FR Doc. 2022-11796 Filed 6-1-22; 8:45 am]

BILLING CODE 3510-22-P